DEPARTMENT OF HEALTH AND HUMAN SERVICES

Health Resources and Services Administration

Agency Information Collection Activities: Proposed Collection: Public Comment Request Information Collection Request Title: Ryan White HIV/AIDS Program: Allocations Forms, OMB No. 0915-0318—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than January 23, 2023.

ADDRESSES: Submit your comments to paperwork@hrsa.gov or mail the HRSA Information Collection Clearance Officer, Room 14N39, 5600 Fishers Lane, Rockville, MD 20857.

FOR FURTHER INFORMATION CONTACT: To request more information on the proposed project or to obtain a copy of the data collection plans and draft instruments, mail paperwork@hrsa.gov or call Samantha Miller, the acting HRSA Information Collection Clearance Officer, at (301) 443-9094.

SUPPLEMENTARY INFORMATION: When submitting comments or requesting information, please include the information request collection title for reference.

Information Collection Request Title: Ryan White HIV/AIDS Program: Allocations Forms, OMB No. 0915-0318—Revision.

Abstract: HRSA's HIV/AIDS Bureau administers the Ryan White HIV/AIDS Program (RWHAP) authorized under Title XXVI of the Public Health Service Act as amended by the Ryan White HIV/AIDS Treatment Extension Act of 2009. The RWHAP Allocations and Expenditures Reports (A&E Reports) allow HRSA to monitor and track the use of grant funds for compliance with program and grants policies, and requirements as outlined in the legislation. To avoid duplication and reduce recipient reporting burden, HRSA created an electronic grantee contract management system (GCMS) that includes data required for various reports, including the Allocations Reports and other HRSA data reports, such as the RWHAP Services Report. Recipients can access GCMS year-round to upload or manually enter data on their service provider contractors or subrecipients, the RWHAP core medical and support services provided, and their funding amounts. Data required for Allocations Reports and other reports are automatically prepopulated from GCMS. Expenditures Report data are not auto-populated in the GCMS, and are thus still manually entered into the data reporting system.

Allocations and Expenditures (A&E) Reports

Recipients funded under RWHAP Parts A, B, C, and D are required to report financial data to HRSA at the beginning (Allocations Report) and at the end of their grant budget period (Expenditures Report). The A&E Reports request information recipients already collect, including the use of RWHAP grant funds for core medical and support services; and on various program components, such as administration, planning and evaluation, and clinical quality management. RWHAP Parts A and B recipients funded under the Ending the HIV Epidemic Initiative (EHE) are also required to report EHE services allocations and corresponding EHE award expenditures in the A&E Reports. This allows HRSA to track and report progress toward meeting the EHE goals. The reports are similar in content; however, in the first report, recipients document the allocation of their RWHAP grant award at the beginning of their grant budget period. In the second report, recipients document actual expenditures of their RWHAP grant award (including any carryover dollars) at the end of their grant budget period.

HRSA is proposing the following updates to the RWHAP Allocation Reports.

RWHAP Part A Allocations Report

• Revising row and column headers and other language for clarity and alignment with RWHAP requirements;

• Combining the columns for RWHAP Part A Formula and Supplemental Allocation amounts and updating the title;

• Moving the RWHAP Part A Minority AIDS Initiative (MAI) Award Amount row after the RWHAP Part A Supplemental Award Amount row;

• Changing the calculation for Service Allocation Subtotal percent in the Total RWHAP Part A Allocation Amounts column;

• Blacking out the percent columns for the RWHAP Part A Formula and Supplemental Allocation Amounts, RWHAP Part A MAI Allocation Amounts, and selected cells in the Total RWHAP Part A Allocation Amounts column; and

• Adding the Legislative Requirements Checklist.

RWHAP Part B Allocations Report

• Revising row and column headers and other language for clarity and alignment with RWHAP requirements;

• Adding the following rows to Table 1: 4c. Part B HIV Care Consortia Planning & Evaluation/Emerging Communities (EC) HIV Care Consortia Planning & Evaluation and 4d. Part B HIV Care Consortia Clinical Quality Management (CQM)/EC HIV Care Consortia CQM except for the AIDS Drug Assistance Program (ADAP) Earmark + ADAP Supplemental Award cells;

• Removing row 11. Total Part B X07 Allocations;

• Allowing users to enter data in Table 2 for 1d. Health Insurance Premium & Cost Sharing and 1e. Home and Community-based Health Services;

• Blacking out selected cells in the following rows, columns, or tables:

2. Part B Health Insurance Premium & Cost Sharing Assistance for Low-Income Individuals (Table 1) as this information is also reported in Table 2

3. Part B Home and Community-based Health Services (Table 1) as this information is also reported in Table 2

4. Total Column (Table 1)

1a. AIDS Drug Assistance Program Treatments (Table 2) as this information is also reported in Table 1

MAI Award (Table 3); and

• Updating calculations and language in the Legislative Requirements Checklist.

RWHAP Part C Allocations Report

• There are no proposed changes to the RWHAP Part C Allocations Report.

RWHAP Part D Allocations Report

• There are no proposed changes to the RWHAP Part D Allocations Report.

HRSA EHE A&E Reports

• There are no proposed changes to the HRSA EHE Allocations Reports.

Need and Proposed Use of the Information: Accurate allocation, expenditure, and service contract records of the recipients receiving RWHAP funding are critical to the implementation of the RWHAP legislation and thus are necessary for HRSA to fulfill its monitoring and oversight responsibilities.

Likely Respondents: RWHAP Part A, Part B, Part C, and Part D recipients.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Part A Allocations Report | 52 | 1 | 52 | 4 | 208
Part B Allocations Report | 54 | 1 | 54 | 6 | 324
Part C Allocations Report | 346 | 1 | 346 | 4 | 1,384
Part D Allocations Report | 116 | 1 | 116 | 4 | 464
EHE Allocations Reports | 47 | 1 | 47 | 4 | 188
Total | 615 |  | 615 |  | 2,568

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2022-25449 Filed 11-21-22; 8:45 am]

BILLING CODE 4165-15-P